Title 3—

The President

Proclamation 10627 of September 18, 2023

National Voter Registration Day, 2023

By the President of the United States of America

A Proclamation

The right to vote and to have that vote counted is the threshold of democracy. Without it, nothing is possible, but with it, anything is. On National Voter Registration Day, we reaffirm our commitment to ensuring every American has equal opportunity to participate in our democracy, and we encourage all eligible Americans to register to vote.

Since the founding of our country, countless Americans have fought to secure the right to vote and to have that vote counted for all. Women did not secure the right to vote until 1920. Black Americans were denied full citizenship and voting rights up until 1965. Time and again, Americans have fought against great opposition—they have marched, protested, and even died for the right to vote. They have done the hard work of our democracy by registering voters and getting them to the polls.

Yet, even today, the voting rights of so many hang in the balance. The Supreme Court weakened the landmark Voting Rights Act, and in the years since, States have enacted dozens of anti-voting laws. On January 6, 2021—one of the darkest moments of our Nation's history—we saw the violent and deadly insurrection at the Capitol perpetrated by election deniers. It is clear that the fight to preserve our democratic values and norms is not over. Just as generations of Americans past rose to the occasion, protecting and securing the right to vote, we must answer the call to fight for our democracy today.

Delivering a Government by and for the people begins and ends with the ballot box. My Administration will do everything in our power to protect it. It is why I signed an Executive Order that established a whole-of-government effort to promote access to voter registration and election information all across America, including in underserved communities. In response, Federal agencies have taken action to help make it easier for veterans and college students to register to vote. The Department of Justice has also doubled its voting rights staff. As President, I will continue to fight back against State legislation that undermines the will of the American people. I continue to call on the Congress to pass the Freedom to Vote Act and the John Lewis Voting Rights Advancement Act to expand access to voting and prevent voter suppression. Passing these laws is the only way to fully secure the right to vote in every State.

Today, I think of the words of the late civil rights trailblazer Representative John Lewis: “Democracy is not a state; it is an act.” As our democracy faces threats from those who seek to weaken the right to vote, it has never been more important to act—to protect and expand the right to vote. I know that we will—not just because our cause is just, our vision is clear, and our hearts are full but because generations of Americans refused to give up until they secured voting rights for all of us. Now it is our turn to secure the right to vote for all Americans once more. For the generations to come, for the strength of our democracy, and for the preservation of our extraordinary experiment in self-government, we must remain committed to securing the right to vote for all and redeeming the soul of our Nation.

On National Voter Registration Day, I call on all eligible Americans to ensure that they are registered to vote by checking that their registration is accurate and up to date and to help their communities do the same. Visit www.Vote.gov for more information on how to register to vote. I also urge policymakers and constituents alike to join me in preserving, reinforcing, and expanding this essential constitutional right.

NOW, THEREFORE, I, JOSEPH R. BIDEN JR., President of the United States of America, by virtue of the authority vested in me by the Constitution and laws of the United States, do hereby proclaim September 19, 2023, as National Voter Registration Day. I call on all eligible Americans to observe this day by ensuring that they are accurately registered and by committing to cast a ballot in upcoming elections.

IN WITNESS WHEREOF, I have hereunto set my hand this eighteenth day of September, in the year of our Lord two thousand twenty-three, and of the Independence of the United States of America the two hundred and forty-eighth.

[FR Doc. 2023-20819

Filed 9-21-23; 11:15 am]

Billing code 3395-F3-P